FEDERAL COMMUNICATIONS COMMISSION

47 CFR Part 73

[DA 01-693; MM Docket No. 01-69, RM-10081; MM Docket No. 01-70, RM-10082; MM Docket No. 01-71, RM-10083]

Radio Broadcasting Services; Parker, AZ; Quartzsite, AZ; Leesville, LA.

AGENCY: Federal Communications Commission.

ACTION: Proposed rule.

SUMMARY: This document proposes new allotments to Parker, AZ; Quartzsite, AZ; and Leesville, LA. The Commission requests comments on a petition filed by McMullen Valley Broadcasting Company proposing the allotment of Channel 247C3 at Parker, Arizona, as the community's fourth local aural transmission service. Channel 247C3 can be allotted to Parker in compliance with the Commission's minimum distance separation requirements with a site restriction of 10.8 kilometers (6.7 miles) south of Parker. The coordinates for Channel 247C3 at Parker are 34-03-11 North Latitude and 114-17-18 West Longitude. Since Parker is located within 320 kilometers (199 miles) of the U.S.-Mexican border, concurrence of the Mexican government has been requested. See Supplementary Information.

DATES: Comments must be filed on or before May 7, 2001, and reply comments on or before May 22, 2001.

ADDRESSES: Federal Communications Commission, Washington, DC 20554. In addition to filing comments with the FCC, interested parties should serve the petitioner, his counsel, or consultant, as follows: Mark N. Lipp and James E. Morgan, Shook Hardy & Bacon, L.L.P., 600 14th Street, NW, Suite 800, Washington, DC 20005 (Counsel for McMullen Valley Broadcasting Company); and Stargazer Broadcasting, Inc., P.O. Box 519, Woodville, Texas 75979 (Petitioner for the Leesville, LA proposal).

FOR FURTHER INFORMATION CONTACT: R. Barthen Gorman, Mass Media Bureau, (202) 418-2180.

SUPPLEMENTARY INFORMATION: This is a synopsis of the Commission's Notice of Proposed Rule Making, MM Docket No. 01-69; MM Docket No. 01-70; and MM Docket No. 01-71, adopted March 07, 2001, and released March 16, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission requests comments on a petition filed by McMullen Valley Broadcasting Company proposing the allotment of Channel 297C3 at Quartzside, Arizona, as the community's second local FM transmission service. Channel 297C3 can be allotted to Quartzside in compliance with the Commission's minimum distance separation requirements with a site restriction of 13.7 kilometers (8.5 miles) east of Quartzsite. The coordinates for Channel 297C3 at Quartzside are 33-39-06 North Latitude and 114-04-56 West Longitude. Since Quartzside is located within 320 kilometers (199) miles of the U.S.-Mexican border, concurrence of the Mexican government has been requested.

The Commission requests comments on a petition filed by Stargazer Broadcasting of Western Louisiana proposing the allotment of Channel 252A at Leesville, Louisiana, as the community's fourth local aural transmission service. Channel 252A can be allotted to Leesville in compliance with the Commission's minimum distance separation requirements with a site restriction of 1.7 kilometers (1 mile) west of Leesville. The coordinates for Channel 252A at Leesville are 31-08-30 North Latitude and 93-16-41 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR § 1.1204(b) for rules governing permissible ex parte contacts.

For information regarding proper filing procedures for comments, see 47 CFR §§ 1.415 and 1.420.

List of Subjects in 47 CFR Part 73

Radio broadcasting.

For the reasons discussed in the preamble, the Federal Communications Commission proposes to amend 47 CFR Part 73 as follows:

PART 73—BROADCAST SERVICES

1. The authority citation for Part 73 continues to read as follows:

Authority: 47 U.S.C. 154, 303, 334, and 336.

§ 73.202 [Amended]

2. Section 73.202(b), the Table of FM Allotments under Arizona, is amended by adding Channel 247C3 at Parker, and Quartzside, Channel 297C3.

3. Section 73.202(b), the Table of FM Allotments under Louisiana, is amended by adding Channel 252A at Leesville.

Federal Communications Commission.
John A. Karousos,
Chief, Allocations Branch, Policy and Rules Division, Mass Media Bureau.

[FR Doc. 01-8241 Filed 4-3-01; 8:45 am]

BILLING CODE 6712-01-U